DEPARTMENT OF LABOR

Employment and Training Administration

[TA-W-64,947]

Philip Morris USA, Cabarrus Manufacturing Plant, a Subsidiary of Altria Group, Inc.; Concord, NC; Notice of Affirmative Determination Regarding Application for Reconsideration

By application dated February 19, 2009, the petitioner requested administrative reconsideration of the negative determination regarding workers' eligibility to apply for Trade Adjustment Assistance (TAA) and Alternative Trade Adjustment Assistance (ATAA) applicable to workers and former workers of the subject firm. The determination was issued on February 6, 2009. The Notice of Determination was published in the Federal Register on March 3, 2009 (74 FR 9283).

The initial investigation resulted in a negative determination based on the finding that imports of cigarettes did not contribute importantly to worker separations at the subject firm. The investigation revealed that the subject firm shifted production of cigarettes to foreign countries during the period under investigation. However, these products were not likely to be imported back to the United States.

In the request for reconsideration, the petitioner provided additional information regarding a shift in production of cigarettes to Colombia, Dominican Republic, Ecuador, El Salvador, and Mexico.

The Department has carefully reviewed the request for reconsideration and the existing record and has determined that the Department will conduct further investigation to determine if the workers meet the eligibility requirements of the Trade Act of 1974.

Conclusion

After careful review of the application, I conclude that the claim is of sufficient weight to justify reconsideration of the U.S. Department of Labor's prior decision. The application is, therefore, granted.

Signed at Washington, DC, this 17th day of March 2009.
Elliott S. Kushner,
Certifying Officer, Division of Trade Adjustment Assistance.

[FR Doc. E9-7104 Filed 3-30-09; 8:45 am]

BILLING CODE 4510-FN-P